FEDERAL MINE SAFETY AND HEALTH REVIEW COMMISSION

Sunshine Act Meeting

May 15, 2000.

TIME AND DATE: 10 a.m., Monday, May 15, 2000.

PLACE: Room 6005, 6th Floor, 1730 K Street NW, Washington, DC.

STATUS: Closed pursuant to 5 U.S.C. § 552b(c)(10)).

MATTERS TO BE CONSIDERED: It was determined by unanimous vote of a quorum of the Commission that the Commission consider and act upon the following in closed session:

1. Eagle Energy, Inc. v. Secretary of Labor (MSHA) and FMSHRC, 4th Cir. No. 00-1073, FMSHRC Docket No. WEVA 98-39.

No earlier announcement of the meeting was possible.

CONTACT PERSON FOR MORE INFO: Jean Ellen: (202) 653-5629, (202) 708-9300 for TDD Relay, 1-800-877-8339 for toll-free.

Jean H. Ellen,
Chief Docket Clerk.

[FR Doc. 00-12757 Filed 5-17-00; 1:30 pm]

BILLING CODE 6735-01-M